DEPARTMENT OF HEALTH AND HUMAN SERVICES

Centers for Disease Control and Prevention

[60Day-04-04JW]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210 or send an e-mail to omb@cdc.gov.

CDC is requesting an emergency clearance for this data collection with a two week public comment period. CDC is requesting OMB approval of this package 7 days after the end of the public comment period. While there is currently no SARS outbreak, expedited clearance is needed because the season when SARS outbreaks are most likely to occur is quickly approaching.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda M. Perryman, CDC Assistant Reports Clearance Officer, 1600 Clifton Road, MS-E11, Atlanta, GA 30333. Written comments should be received within 14 days of this notice.

Proposed Project

SARS Laboratory Safety Survey—New—National Center for Infectious Diseases (NCID), Centers for Disease Control and Prevention (CDC).

During the past year, incidents of lab-acquired SARS-CoV infection have occurred at research institutions in China, Singapore, and Taiwan. As part of measures taken by CDC to prevent lab-acquired SARS infections in the United States, the Respiratory and Enteric Virus Branch (REVB) would like to collect information on current biosafety practices and use of live SARS-CoV from U.S. institutions that have obtained the virus, either from CDC or from other sources.

Response data will be used to determine to what extent research involving live SARS-CoV and other biosafety level 3 pathogens is being conducted, the safety of the research environment, information about biosafety training, and the level of lab worker experience with BSL-3 pathogens. Expedited collection of this information is necessary to ascertain the safety of environments where live SARS-CoV research may be taking place and to potentially address any deficiencies that may exist. There is no cost to the respondents.

Form | Respondent | No. of respondents | No. of responses/respondent | Avg. burden/response (in hrs.) | Total burden hours
Safety Survey for Laboratories Conducting Research with live SARS-CoV and Other BSL-3 Pathogens | Laboratorians | 120 | 1 | 10/60 | 20
Total |  |  |  |  | 20

Dated: August 4, 2004.
Alvin Hall,
Director, Management Analysis and Services Office, Centers for Disease Control and Prevention.

[FR Doc. 04-18331 Filed 8-10-04; 8:45 am]

BILLING CODE 4163-18-P